ENVIRONMENTAL PROTECTION AGENCY

40 CFR Part 52

[EPA-R01-OAR-2025-0249; FRL-12888-01-R1]

Air Plan Approval; Rhode Island; Amendments to Motor Vehicle Inspection and Maintenance Program

AGENCY: Environmental Protection Agency (EPA).

ACTION: Proposed rule.

SUMMARY: The Environmental Protection Agency (EPA) is proposing to approve a State Implementation Plan (SIP) revision submitted by the Rhode Island Department of Environmental Management Office of Air Resources on December 20, 2023, that includes an amended regulation for the Enhanced Motor Vehicle Inspection and Maintenance (I/M) program in Rhode Island. Overall, the submittal removes obsolete references, adds definitions, and clarifies the Rhode Island I/M program requirements, which consist primarily of conducting Onboard Diagnostics (OBD) testing. The intended effect of this action is to propose approval of the State's amended I/M program regulation into the Rhode Island SIP. This action is being taken under the Clean Air Act (CAA). EPA has evaluated the SIP revision and has preliminarily determined the changes will not impact emissions under the Rhode Island I/M program. EPA is proposing to conclude that approval of the SIP revision will not interfere with attainment or maintenance of any National Ambient Air Quality Standard (NAAQS) or with any other applicable requirement of the CAA. Therefore, EPA is proposing to determine that Rhode Island's December 20, 2023, SIP revision is consistent with the applicable provisions of the CAA.

DATES: Written comments must be received on or before August 27, 2025.

ADDRESSES: Submit your comments, identified by Docket ID No. EPA-R01-OAR-2025-0249 at https://www.regulations.gov, or via email to [insert appropriate regional email address]. For comments submitted at Regulations.gov, follow the online instructions for submitting comments. Once submitted, comments cannot be edited or removed from Regulations.gov. For either manner of submission, the EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e., on the web, cloud, or other file sharing system). For additional submission methods, please contact the person identified in the “For Further Information Contact” section. For the full EPA public comment policy, information about CBI or multimedia submissions, and general guidance on making effective comments, please visit https://www.epa.gov/dockets/commenting-epa-dockets. Publicly available docket materials are available at https://www.regulations.gov or at the U.S. Environmental Protection Agency, EPA Region 1 Regional Office, Air and Radiation Division, 5 Post Office Square—Suite 100, Boston, MA. EPA requests that if at all possible, you contact the contact listed in the FOR FURTHER INFORMATION CONTACT section to schedule your inspection.

FOR FURTHER INFORMATION CONTACT: Ayla Martinelli, Air Quality Branch, U.S. Environmental Protection Agency, EPA Region 1, 5 Post Office Square—Suite 100, (Mail code 5-MI), Boston, MA 02109-3912, tel. (617) 918-1057, email: martinelli.ayla@epa.gov.

SUPPLEMENTARY INFORMATION: Throughout this document, “we,” “us,” or “our” refers to the EPA.

Table of Contents

I. Background and Purpose

II. What are the Clean Air Act requirements for I/M programs?

III. Summary of Rhode Island's Regulatory Changes

IV. Proposed Action

V. Incorporation by Reference

VI. Statutory and Executive Order Reviews

I. Background and Purpose

On December 20, 2023, the Rhode Island Department of Environmental Management Office of Air Resources submitted to EPA a revision to its SIP that amends the State's I/M program regulations. EPA is proposing to approve Rhode Island's revised I/M program because it is consistent with the CAA I/M requirements and EPA's I/M regulations at 40 CFR part 51, subpart S, and will strengthen the SIP. Specifically, the revision consists of amendments to Rhode Island's Air Pollution Control Regulations (APCR) Part 34, “Rhode Island Motor Vehicle Inspection and Maintenance Program,” to remove provisions related to tailpipe emissions testing using a dynamometer and to make other adjustments, as well as other administrative and technical documentation required in a SIP submittal to address the requirements for the implementation of the motor vehicle inspection and maintenance program in Rhode Island. The State's I/M program, as currently approved into the SIP, exempts vehicles from testing that are more than 25 model years old. As a result, Rhode Island ceased tailpipe testing of pre-OBD-equipped vehicles ¹ in 2021.

¹ On-Board Diagnostic systems (OBD) became a requirement for light-duty gasoline vehicles starting in the 1996 model year.

II. What are the Clean Air Act requirements for I/M programs?

The CAA, 42 U.S.C. 7401, et seq., requires certain states to implement I/M programs to detect light duty motor vehicles that emit excessive amounts of certain air pollutants. These programs are intended to help states meet federal NAAQS for ozone and carbon monoxide to promote public health and welfare by requiring vehicles with excess emissions to have their emissions control systems repaired to remain in use. Sections 182 and 187 of the CAA requires I/M programs in those areas of the nation that are most impacted by ozone and carbon monoxide pollution. 42 U.S.C. 7511a, 7511c, 7512a. Section 184 of the CAA also created an “Ozone Transport Region” (OTR) that geographically includes the states from Virginia to Maine (including all of Rhode Island) and the District of Columbia Consolidated Metropolitan Statistical Area. In addition, EPA promulgated I/M regulations at 40 CFR part 51, subpart S. The CAA and EPA's regulations under 40 CFR 51.350 outline the applicable motor vehicle I/M requirements according to an area's NAAQS nonattainment status and classification and/or geographic location within the OTR.

As a result of having areas designated nonattainment for the 1997 8-hour ozone NAAQS (see 40 CFR 81.340) and by virtue of its inclusion in the OTR, Rhode Island has implemented a statewide Low Enhanced vehicle emissions testing program since January of 2000. The Rhode Island I/M program, first approved into the SIP on February 9, 2001, included all the elements required of a Low Enhanced I/M program (66 FR 9661). At that time, the Rhode Island I/M program operated statewide at licensed private garages that also performed the required safety tests on vehicles. Rhode Island operated a test-and-repair network with vehicle tailpipe emissions testing performed with dynamometers and synced into a computer connected network. Enforcement was by windshield stickers but was changed to registration denial in January 2001. Since that time, the program has been modified in several ways. Rhode Island submitted an I/M program SIP revision on January 28, 2009, and supplemented it on February 17, 2017, which EPA approved into the SIP on May 25, 2018 (83 FR 24223). This revision marked the shift to On-Board Diagnostics (OBD) testing for model year 1996 and newer vehicles, but the state continued to require that 1995 and older vehicles (up to 25 years old) receive a tailpipe emissions test using a dynamometer to meet the previously SIP-approved exhaust emissions standards, or a two-speed idle test for vehicles with drive configurations that prevented a dynamometer test. The OBD system continuously monitors the emission control systems and will activate the malfunction indicator lamp (MIL) on the dashboard, also commonly referred to as the “Check Engine” light, if a fault, also known as a Diagnostic Trouble Code (DTC), is detected. During an OBD test in an I/M program, the presence of one or more DTCs that command the MIL on indicates a failed inspection. In general, vehicles that fail inspection must be repaired and be retested. OBD I/M programs can yield emission benefits even from vehicles that do not fail a test. For instance, many motorists, when seeing the OBD “Check Engine” light is on, will elect to repair their vehicle prior to their required inspection.

III. Summary of Rhode Island's Regulatory Changes

The I/M program in Rhode Island's current approved SIP exempts model year vehicles 25 years old or older from having to obtain repairs, following a failed emissions inspection. Thus, since 2021, all vehicles subject to tailpipe emissions testing using a dynamometer have aged out of any requirement to obtain testing and repairs under the Rhode Island I/M program. Rhode Island's amended APCR Part 34, submitted as a SIP revision on December 20, 2023, updates the I/M program in Rhode Island, including removing provisions related to dynamometer testing, which has ceased, and other minor clarifications. Since these administrative changes to the State's regulations being proposed here for inclusion in the SIP do not affect the emissions reduction potential of the currently SIP-approved Rhode Island I/M program, the SIP submittal satisfies the anti-backsliding requirements of CAA section 110(l) and will not interfere with any applicable requirement concerning attainment and reasonable further progress, or with any other applicable requirement of the CAA.

Rhode Island's amended APCR Part 34 updates numerous regulatory provisions by amending language to clarify the I/M program requirements in Rhode Island. A summary of the most substantial changes made to the subsections and provisions as they currently exist in the Rhode Island SIP follows. Rhode Island (1) adjusted the title of section 34.1, and added a separate subsection for the already existing description of `Purpose'; (2) added an “Incorporated Materials” addendum as section 34.4; (3) removed the following definitions from 34.5: “adjusted vehicle weight”, “curb weight”, “exhaust emissions standard”, gross vehicle weight rating”, “IM240”, “loaded vehicle weight”, “new motor vehicle”, “operator”, “RI2000”, “remote sensing device”, and “transient emission test”; (4) added definitions for “malfunction indicator light”, and “emission control component inspection” to 34.5; (5) made multiple amendments to 34.7 by replacing dynamometer language with emissions control component inspection related material; (6) completely removed section 34.8 regarding exhaust emissions standards; (7) changed the title and content of section 34.9 by adding subsections for evaporative emission standards and emissions control component standards; (8) updated and renumbered section 34.11 by simplifying equipment audit requirements; and (9) amended and renumbered section 34.12 to include video and still images in quality control data. Other minor edits are found throughout the proposed revision, including other renumbering and rewording.

IV. Proposed Action

EPA is proposing to approve Rhode Island's December 20, 2023, SIP revision containing Rhode Island's revised motor vehicle I/M program regulation. The revisions to the State's I/M regulation are administrative in nature and will not interfere with attainment or maintenance of any NAAQS or with any other applicable requirement of the CAA. Therefore, EPA is proposing to determine that Rhode Island's December 20, 2023, SIP revision is consistent with the applicable provisions of the CAA.

EPA is soliciting public comments on the issues discussed in this notice or on other relevant matters. These comments will be considered before taking final action. Interested parties may participate in the Federal rulemaking procedure by submitting written comments to this proposed rule by following the instructions listed in the ADDRESSES section of this Federal Register.

V. Incorporation by Reference

In this rule, the EPA is proposing to include in a final EPA rule regulatory text that includes incorporation by reference. In accordance with requirements of 1 CFR 51.5, the EPA is proposing to incorporate by reference Rhode Island's Air Pollution Control Regulations (APCR) Part 34—Rhode Island Motor Vehicle Inspection and Maintenance (I/M) Program, as discussed in section III. The EPA has made, and will continue to make, these documents generally available through https://www.regulations.gov and at the EPA Region 1 Office (please contact the person identified in the FOR FURTHER INFORMATION CONTACT section of this preamble for more information).

VI. Statutory and Executive Order Reviews

Under the Clean Air Act, the Administrator is required to approve a SIP submission that complies with the provisions of the Clean Air Act and applicable Federal regulations. See 42 U.S.C. 7410(k); 40 CFR 52.02(a). Thus, in reviewing SIP submissions, EPA's role is to approve state choices, provided that they meet the criteria of the Clean Air Act. Accordingly, this proposed action merely approves state law as meeting Federal requirements and does not impose additional requirements beyond those imposed by state law. For that reason, this proposed action:

• Is not a significant regulatory action subject to review by the Office of Management and Budget under Executive Order 12866 (58 FR 51735, October 4, 1993);

• Is not subject to Executive Order 14192 (90 FR 9065, February 6, 2025) because SIP actions are exempt from review under Executive Order 12866;

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have federalism implications as specified in Executive Order 13132 (64 FR 43255, August 10, 1999);

• Is not subject to Executive Order 13045 (62 FR 19885, April 23, 1997) because it approves a state program;

• Is not a significant regulatory action subject to Executive Order 13211 (66 FR 28355, May 22, 2001); and

• Is not subject to requirements of Section 12(d) of the National Technology Transfer and Advancement Act of 1995 (15 U.S.C. 272 note) because application of those requirements would be inconsistent with the Clean Air Act.

In addition, the SIP is not approved to apply on any Indian reservation land or in any other area where EPA or an Indian tribe has demonstrated that a tribe has jurisdiction. In those areas of Indian country, the rule does not have tribal implications and will not impose substantial direct costs on tribal governments or preempt tribal law as specified by Executive Order 13175 (65 FR 67249, November 9, 2000).

List of Subjects in 40 CFR Part 52

Environmental protection, Air pollution control, Carbon monoxide, Incorporation by reference, Intergovernmental relations, Lead, Nitrogen dioxide, Ozone, Particulate matter, Reporting and recordkeeping requirements, Sulfur oxides, Volatile organic compounds.

Dated: July 10, 2025.
Mark Sanborn,
Regional Administrator, EPA Region 1.

[FR Doc. 2025-14105 Filed 7-25-25; 8:45 am]

BILLING CODE 6560-50-P